DEPARTMENT OF LABOR

Employment and Training Administration

[TA-W-37,016]

Deluxe Corporation, Financial Services Division, Springfield, Massachusetts; Dismissal of Application for Reconsideration

Pursuant to 29 CFR 90.18(C) an application for administrative reconsideration was filed with the Director of the Division of Trade Adjustment Assistance for workers at Delux Corporation, Financial Services Division, Springfield, Massachusetts. The application contained no new substantial information which would bear importantly on the Department's determination. Therefore, dismissal of the application was issued.

TA-W-37,106; Deluxe Corporation, Financial Services Division, Springfield, Massachusetts (May 23, 2000).

Signed at Washington, DC this 25th day of May 2000.
Grant D. Beale,
Program Manager, Division of Trade Adjustment Assistance.

[FR Doc. 00-13757 Filed 6-1-00; 8:45 am]

BILLING CODE 4510-30-M